DEPARTMENT OF THE INTERIOR

National Park Service

[NPS-SER-BICY-16532; PPSEBICY00, PPMPSPD1Z.YM0000]

Cancellation of October 7, 2014, Meeting of the Big Cypress National Preserve Off-Road Vehicle Advisory Committee

AGENCY: National Park Service, Interior.

ACTION: Cancellation of Meeting.

SUMMARY: In accordance with the Federal Advisory Committee Act (5 U.S.C. Appendix 1-16), notice is hereby given that the October 7, 2014, meeting of the Big Cypress National Preserve Off-Road Vehicle Advisory Committee previously announced in the Federal Register, Vol. 79, March 12, 2014, p. 14080, is cancelled.

FOR FURTHER INFORMATION CONTACT: Pedro Ramos, Superintendent, Big Cypress National Preserve, 33100 Tamiami Trail East, Ochopee, Florida 34141-1000, (239) 695-1103.

SUPPLEMENTARY INFORMATION: The Committee was established (Federal Register, August 1, 2007, pp. 42108-42109) pursuant to the Preserve's 2000 Recreational Off-Road Vehicle Management Plan and the Federal Advisory Committee Act (5 U.S.C. Appendix 1-16) to examine issues and make recommendations regarding the management of off-road vehicles in the Preserve.

Dated: September 29, 2014.
Alma Ripps,
Chief, Office of Policy.

[FR Doc. 2014-23651 Filed 10-2-14; 8:45 am]

BILLING CODE 4310-EE-P